DEPARTMENT OF HEALTH AND HUMAN SERVICES

Office of Inspector General; Program Exclusions: May 2000

AGENCY: Office of Inspector General, HHS.

ACTION: Notice of program exclusions.

During the month of May 2000, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject, city, state | Effective date
PROGRAM-RELATED CONVICTIONS
AKIN, CHARLES PHILIP, RAFTWOOD, TX | 06/20/00
AKOPYAN, GEVORK, LOS ANGELES, CA | 06/20/00
AKOPYAN, DANIEL, SAN DIEGO, CA | 06/20/00
BRIKER, RUSLAN, BROOKLYN, NY | 06/20/00
BRITTAIN, RICHARD E JR, MANCHESTER, KY | 06/20/00
CARABELLA, ROBERT, MANCHESTER, KY | 06/20/00
CHARLES, JOSEPH N, BROOKLYN, NY | 06/20/00
CHASSEREAU, DANIEL, EHRHARDT, SC | 06/20/00
COLLIER, JORDYCE A, MEDFORD, OR | 06/20/00
CORN, JOANN, DENVER, CO | 02/14/99
CROW, DONNA M, SHENANDOAH, IA | 06/20/00
DINE, THEODORE SR, N SYRACUSE, NY | 06/20/00
DISHON, LORI A, BALTIMORE, MD | 06/20/00
DOBY, KIMBERLY M, DENVER, CO | 06/20/00
DOVALINA, ELSA, EAGLE PASS, TX | 06/20/00
DURAND, DEVIN, ENCINITAS, CA | 06/20/00
DURANONA, RAFAEL ECHAVARRIA, MIAMI, FL | 06/20/00
EKIZYAN, OGANES, LOS ANGELES, CA | 06/20/00
ELIZALDE, MARIA ROSA, MIAMI, FL | 06/20/00
EMBRIANO, PETER J, SOMERS, CT | 07/28/98
GARNER, WILMA J, BALTIMORE, MD | 06/20/00
GODZHOYAN, ARPINE, LOS ANGELES, CA | 06/20/00
GONZALEZ, WILFREDO, MIAMI, FL | 06/20/00
GOODBODY, JOHN P, WEBSTER, NY | 06/20/00
HERAVI, BIJAN, LOS ANGELES, CA | 06/20/00
HERNDON, PATRICIA SUE, ENID, OK | 06/20/00
ILYAS, ZAHID, EDISON, NJ | 06/20/00
KIDS CHARIOT, INC, COLORADO SPRNGS, CO | 06/20/00
KIESTLER, TED JAMES, SPANAWAY, WA | 06/20/00
LAYMON, ELIZABETH CAROLINE, MIAMI, OK | 06/20/00
LLOYD, BRUCE, MARLBOROUGH, MA | 12/08/98
MALOFF, HAROLD, ROSLYN, NY | 06/20/00
MARRAZZO, DEAN A, JESSUP, PA | 06/20/00
MARTINEZ, MELCHOR, WHITEHALL, PA | 06/20/00
MASTERSON, MARK, SANTA ROSA, CA | 12/02/99
MENDEZ-CANTU, BLANCA, EAGLE PASS, TX | 06/20/00
MIZNER, JAMES J JR, STANTON, VA | 06/20/00
MOHAMEDOLWAN, TAMGID TAWFIK, FISHKILL, NY | 06/20/00
NAKASHIMA, MELVIN K, EL MONTE, CA | 06/20/00
PALEZYAN, RICHARD, BURBANK, CA | 06/20/00
PARIKH, PRADIPKUMAR, N WOODMERE, NY | 06/20/00
PERGLER, RICHARD R, CRYSTAL LAKE, IL | 06/20/00
PICKLES, HOMER LEE JR, GRAND PRAIRIE, TX | 06/20/00
POETOEHENA, MARCEL RUDOLF J II, LONG BEACH, CA | 06/20/00
RESNICK, LIONEL, MIAMI BEACH, FL | 06/20/00
RHYNES, RUSHANDRA C, EMERSON, AR | 06/20/00
ROBERTS, LESLIE M, NEEDHAM, MA | 06/20/00
ROLLINS, CLEN, WINNSBORO, LA | 06/20/00
ROSENBERG, JEROME, GREAT NECK, NY | 06/20/00
SAPO, IGOR, EL MONTE, CA | 06/20/00
SEIBS, BRENDA K, PINE BLUFF, AR | 06/20/00
SHARMA, YOGENDRA, ROBBINSVILLE, NJ | 06/20/00
SHERANI, TAHIR, S ORANGE, NJ | 06/20/00
SPENCER, DENIS EDWIN, TUSTIN, CA | 09/28/99
SPRUILL, TRACIE LEE, WESTBURY, NY | 06/20/00
STEINHOUSE, NATAWADEE, DANBURY, CT | 06/20/00
STIMPSON, JERRY LINWOOD, IDAHO SPRINGS, CO | 06/20/00
TASLAGIAN, MOVSES, RESEDA, CA | 06/20/00
THORNTON, RAYMOND LEIGH, COLORADO SPRNGS, CO | 06/20/00
TOKADJIAN, STEPHAN, LOS ANGELES, CA | 06/20/00
VAZQUEZ, MARIA DEL CARMEN, N MIAMI, FL | 06/20/00
VAZQUEZ, JAKELINE, HIALEAH, FL | 06/20/00
VUONG, VU DINH, LOMPAC, CA | 06/20/00
WADDELL, CHARLES M, MARIETTA, GA | 06/20/00
WELLS, GREGORY D, ASHLAND, KY | 06/20/00
WILLIAMS, PAUL W JR, GRAND COTEAU, LA | 06/20/00
WONGUS, ROSALIE, BALTIMORE, MD | 06/20/00
WOODS, GENE MICHAEL, ELKTON, OH | 06/20/00
ZANDER, PAUL D, LOS ANGELES, CA | 11/03/99
FELONY CONVICTION FOR HEALTH CARE FRAUD
FRIDAY, DAVID, WAYNE, PA | 06/20/00
GETHNER, STUART MICHAEL, PARADISE VALLEY, AZ | 06/20/00
KEHRIG, TIMOTHY, ST CLAIRE, MI | 06/20/00
KERAK, JOEL, DOYLESTOWN, PA | 06/20/00
ROACH, SHEILA ANN, PHILADELPHIA, PA | 06/20/00
SOBEL, PATRICIA M, PHILADELPHIA, PA | 06/20/00
VANDERMUELLEN, RONALD, PHILADELPHIA, PA | 06/20/00
FELONY CONTROL SUBSTANCE CONVICTION
BOYD, KIMBERLY S, PIQUA, OH | 06/20/00
BRAKE, TERESA A, CLEVELAND, OH | 06/20/00
ESTRELLA, DAVID, BROOKLYN, NY | 06/20/00
SLOVER, ROBERTA HARTMAN, REHOBOTH BEACH, DE | 06/20/00
TIMMONS, LYNETTE DAWN, SAN DIEGO, CA | 06/20/00
PATIENT ABUSE/NEGLECT CONVICTIONS
ANGELES, ROMEO TAYAG, SAN DIEGO, CA | 06/20/00
ANGRISANO, LISA, BLASDELL, NY | 06/20/00
BETTGER, ROBIN D, NEWARK, OH | 06/20/00
BLASER, EILEEN M, HUDSON, IA | 06/20/00
BRINKLEY, RACHEL ELIZABETH, GAINESVILLE, TX | 06/20/00
BROWN, JEFFREY D, ST CHARLES, MN | 06/20/00
CARDENAS, RAMON ALBERTO, CANOGA PARK, CA | 06/20/00
CARDILLO, JO-ANN, COVENTRY, RI | 06/20/00
CAREY, HELEN N, COLUMBUS, OH | 06/20/00
CLARK, TREVOR DALE, STRATFORD, OK | 06/20/00
CRAWFORD, CAROLYN, PICKENS, MS | 06/20/00
CROSS, RICHARD D, HARVEY, IL | 06/20/00
DECKER, ROBERT E, ROME, NY | 06/20/00
DENNIS, MARIE, LAS VEGAS, NV | 06/20/00
EALY, OLA M, CONWAY, AR | 06/20/00
ELANZO, ELANZO, ENID, OK | 06/20/00
FIELD, JOYCE MARIE, REDDING, CA | 06/20/00
FOREE, BONNIE F, FRUITA, CO | 06/20/00
GILLEYLEN, ELIZABETH, ABERDEEN, MS | 06/20/00
GLASCO, ALFONZA, BOYDTON, VA | 06/20/00
GRIFFITH, NICOLE A, MAGEE, MS | 06/20/00
GUEVARA, SARAH M, MIAMISBURG, OH | 06/20/00
HARNEY, DUANE A, PERKINS, OK | 06/20/00
HARRIS, PATRICIA ANN, MALVERN, AR | 06/20/00
HAYGOOD, ASHLEY BRENT, OKLAHOMA CITY, OK | 06/20/00
HOLLOWAY, JANICE, LONG BEACH, MS | 06/20/00
HOWLAND, NATHAN HENRY III, TENNESSEE COLONY, TX | 06/20/00
HUNTER, TRACY, CANTON, MS | 06/20/00
JACOBS, RODERICK DEWAYNE, BUNKIE, LA | 06/20/00
JEFFERSON, PATRICIA R, DAYTON, OH | 06/20/00
JOHNSON, LEANIER MONTEZ, COLUMBIA, SC | 06/20/00
KIM, SUN CHOONG, MAHANOY CITY, PA | 06/20/00
KING, GREGORY BRUCE, POTEAU, OK | 06/20/00
KROMRIE, BRENDA SUE, FARNHAMVILLE, IA | 06/20/00
KURBAN, HAKAN, RUTHERFORD, NJ | 06/20/00
LEE, RANDOLPH DERAL, SHREVEPORT, LA | 06/20/00
LEWIS, DONNIE SR, MALVERN, AR | 06/20/00
MARTIN, KEITH D, LITTLE ROCK, AR | 06/20/00
MAY, DEBORAH L, GALESBURG, IL | 06/20/00
MCNEILL, MELODIE, LOMPOC, CA | 06/20/00
MILLER, PATRICIA, PEKIN, IL | 06/20/00
MOLHO, DAVID, SCARSDALE, NY | 06/20/00
OCAMPO, GEORGE, SYLMAR, CA | 06/20/00
ODOM, JACQUELINE, BATON ROUGE, LA | 06/20/00
OLAH, SANDOR L, HAMILTON, MI | 06/20/00
ORANO, LOURDES V, STERLING HGTS, MI | 06/20/00
PENN, MICHAEL ADAM, ADDISON, TX | 06/20/00
POWELL, CELESTINE, KEWANEE, IL | 06/20/00
REED, PAMELA A, DECATUR, IL | 06/20/00
RUDOLPH, JANE M GUNSELMAN, FLORENCE, AL | 06/20/00
SANTIAGO, TEOFILA C, CANOGA PARK, CA | 06/20/00
SCHEIBE, MELISSA LYNN, BALTIMORE, MD | 06/20/00
SEAL, SHIRLEY ANN, OKLAHOMA CITY, OK | 06/20/00
SEALS, SANDRA LYNN, CANTON, MS | 06/20/00
SHARMA, RAGENDRA C, KALAMAZOO, MI | 06/20/00
SHEPHERD, STORMY, WESTMINISTER, CO | 06/20/00
SIMON, CAROLYN SUE, ENID, OK | 06/20/00
SMITH, KIMBERLY A, LACKAWANNA, NY | 06/20/00
SMITH, ERIC J, BELLVUE, IL | 06/20/00
VARGAS, MICHELLE, SCHAUMBURG, IL | 06/20/00
WARRIOR, GAYNELL, CHECOTAH, OK | 06/20/00
WRIGHT, JANICE MARIE, PITTSBURGH, PA | 06/20/00
CONVICTION FOR HEALTH CARE FRAUD
DAVIS, ROBERT LEE, KEITHVILLE, LA | 06/20/00
HARLEY, JOHN HINTON, PUEBLO, CO | 06/20/00
HUSAIN, ABDUL, E MEADOW, NY | 06/20/00
ROYER, MARY ANN, DENVER, CO | 06/20/00
STRUBLE, ENRIQUE E, KINGMAN, KS | 06/20/00
WASHINGTON, RENEE M, SUMTER, SC | 06/20/00
LICENSE REVOCATION/SUSPENSION/SURRENDERED
ACOFF, CINDY LUE, TUSCALOOSA, AL | 06/20/00
ALDRICH, RONALD DEAN, PLANO, TX | 06/20/00
ALEXANDER, DERWIN, CHICAGO, IL | 06/20/00
ALI, HAARIS, LOMBARD, IL | 06/20/00
ALLEN, HENRY F, RUTLAND, VT | 06/20/00
ASHLEY, KIMBERLY, CHICAGO, IL | 06/20/00
AUSTIN, MILTON F, KEOKUK, IA | 06/20/00
BAEDER, MARGARET S, AMBLER, PA | 06/20/00
BARROS, JANET K, JAMAICA PLAIN, MA | 06/20/00
BARTON, KIM DEWIT, CORPUS CHRISTI, TX | 06/20/00
BEEBE, JASON A, MASON CITY, IL | 06/20/00
BERANEK, RICHARD N, COLUMBUS, OH | 06/20/00
BERGEN, JOELLIE D, CHEYENNE, WY | 06/20/00
BERGERSON, BERT CECIL, ODESSA, TX | 06/20/00
BLACK, HOLLIE KIM, VISTA, CA | 06/20/00
BLACKBURN, TOYA J, HAZELCREST, IL | 06/20/00
BLADES, WILLIAM CLYDE, HERRIN, IL | 06/20/00
BOSTICK, LINDA KAY, FAYETTE, AL | 06/20/00
BOSWELL, JULIE LEIGH, TRINITY, TX | 06/20/00
BOULAND, PAUL D, DES MOINES, IA | 06/20/00
BRANDON, LISA ANN, FORT WORTH, TX | 06/20/00
BRANHAM, TIMOTHY L, COLUMBUS, OH | 06/20/00
BRAUN, BENNETT G, SKOKIE, IL | 06/20/00
BRICKNER, JAN MARIE, E PEORIA, IL | 06/20/00
BROCK, LAWRENCE S, CLEARFIELD, IA | 06/20/00
BROWN, GAIL D, GREGORY, MI | 06/20/00
BURRAGE, BERNADETTE, DOLTON, IL | 06/20/00
BUTLER, DENISE L, CHICAGO, IL | 06/20/00
CALAMON, PAUL JONATHAN, SAN ANTONIO, TX | 06/20/00
CARLSON, STEVEN A, BURNSVILLE, MN | 06/20/00
CARLTON, CONSTANCE S, CENTERVILLE, OH | 06/20/00
CHABOT, JACQUELINE D, SANTEE, CA | 06/20/00
CILURSO, JUNE EVA, CORTE MADERA, CA | 06/20/00
COLBERT, CRISTIN M, PROSPECT PARK, PA | 06/20/00
COLEMAN, CORNELL, CHICAGO, IL | 06/20/00
COMPANY, CHRISTOPHER LAVERN, DALLAS, TX | 06/20/00
COPPAGE, BRENDA A, WALTON, KY | 06/20/00
COX, JOELENA A, EDGEWOOD, IL | 06/20/00
CRENSHAW, RODERICK K, COLUMUS, OH | 06/20/00
CRONIN, BARBARA, ORELAND, PA | 06/20/00
DAIGLE, DONALD E, N ANDOVER, MA | 06/20/00
DANTZLER, JOHN ALVIN, BREWTON, AL | 06/20/00
DAVIES, BRIAN W, AKRON, OH | 06/20/00
DEUTSCH, TIEASE D, SALISBURY, NC | 06/20/00
DICKENS, JAMES C, LAKEWOOD, OH | 06/20/00
DRIVER, MARY A, BELLWOOD, IL | 06/20/00
ELLER, ELVIRA, HUTTO, TX | 06/20/00
ELLISON, THOMAS M, NORTHLAKE, IL | 06/20/00
FEREBEE-ECHOLS, DEBORAH YVONNE, CHESAPEAKE, VA | 06/20/00
FLOYD, KATHY L, LANCASTER, TX | 06/20/00
FORESMAN, ROBERT P, CASEY, IL | 06/20/00
FOX, WILLIAM JR, WOODBRIDGE, VA | 06/20/00
FRAZIER, SHARON LAVETTE, BIRMINGHAM, AL | 06/20/00
FREW, JAMES R JR, BIG RAPIDS, MI | 06/20/00
GILL, JEFFREY J, MANHAWKIN, NJ | 06/20/00
GLICK, RONALD EVERETT, MAPLE GLEN, PA | 06/20/00
GORSKI, CARLEIGH M, TUCSON, AZ | 06/20/00
GRANT, JOANNE NEWSOM, GEORGIANA, AL | 06/20/00
GREEN, ARVINIA, BOWLING GREEN, KY | 06/20/00
GREEN, RICHARD GORDON, HUNTINGTON, NY | 06/20/00
GRIFFITH, JULLIAN DRU, FULTON, TX | 06/20/00
GROSS, MARY H, N WASHINGTON, PA | 06/20/00
HARMON, JENNETTA JOYCE, ENTERPRISE, AL | 06/20/00
HARRIS, JANET MABEL DEAN, MOBILE, AL | 06/20/00
HARRIS, PAMELA E, MARKHAM, IL | 06/20/00
HINDMAN, RONALD E, HARWICH, MA | 06/20/00
HOLE, BARBARA A, WASHINGTON, IA | 06/20/00
HORNE, JAMES THOMAS, BRONXVILLE, NY | 06/20/00
HUGGINS, CARMEN YADIRA, DAPHNE, AL | 06/20/00
HUIZINGA, RAMONA C, LOCKPORT, IL | 06/20/00
HUTCHINSON, ARCHIBALD W, AURORA, IL | 06/20/00
IVERSON, ROGER G, EAGLE RIVER, WI | 06/20/00
JEFFERSON, MILDRED DIANNE, JASPER, AL | 06/20/00
JENSEN, BERNARD, ARGYLE, NY | 06/20/00
JOHNSON, RANDALL O, LAKE FOREST, IL | 06/20/00
KENT, KATHRYN AMY, TUPELO, MS | 06/20/00
KETCHUM, CAROLL COLLEEN, OKLAHOMA CITY, OK | 06/20/00
KIM, DONG I, HOLLAND, MI | 06/20/00
KINNAIRD, WILLIAM S, NOVELTY, OH | 06/20/00
KOEPFER, DAWN M, SCOTTSDALE, AZ | 06/20/00
LAMER, LORI LYNN, IOWA PARK, TX | 06/20/00
LAND, CASSANDRA NELL, MOBILE, AL | 06/20/00
LAVENDER, JANIS HORNER, VOORHEES, NJ | 06/20/00
LEFLER, TINA L, COELLO, IL | 06/20/00
LEHRMAN, ROBIN ANN, READING, PA | 06/20/00
LELKO, BETHANY JO, CARNEGIE, PA | 06/20/00
LIPSIUS, PETER, LIBERTY, NY | 06/20/00
LOCKE, DEANNA CHRISTINE, SALADO, TX | 06/20/00
LOWERY, SAMUEL R, FOSTORIA, OH | 06/20/00
MADDUX, TEDDY RAYE, SACRAMENTO, CA | 06/20/00
MADISON, KIMBERLEY J, STANDISH, ME | 06/20/00
MARTINEZ, KRISTEN NOELLE, KATY, TX | 06/20/00
MATHER, BARBARA ANN, EL CAJON, CA | 06/20/00
MAYS, JEREMY VINCENT, HOUSTON, TX | 06/20/00
MCCALLUM, MARK FRANKLIN ARCHIE, WYOMING ONTARIO, CN | 06/20/00
MCELYNN, MARIANN, FREEPORT, NY | 06/20/00
MCLAUGHLIN, DEBRA A, HASTINGS, MI | 06/20/00
MILLER, JOAN C, VERNON, TX | 06/20/00
MISTYSYN, CHRISTINE J, FREDERICK, MD | 06/20/00
MOORE, SUSAN R, MADISONVILLE, KY | 06/20/00
MORROW, SUSAN K, CHAMPAIGN, IL | 06/20/00
MUNDY, JOANN C, INDEPENDENCE, VA | 06/20/00
MUNN, ERIN K, FRANKFORT, KY | 06/20/00
NELSON, JONI L, ST PAUL, MN | 06/20/00
NEMETH, IRWIN, CORONADO, CA | 06/20/00
NORGART, MELISSA BLAKE, SANFORD, FL | 06/20/00
NORTON, WYMAN H, LAGRANGE, GA | 06/20/00
O'REILLY, LINDA K, WILLIAMSBURG, VA | 06/20/00
PAYNE, MARGARET A RHODEN, GAINESVILLE, FL | 06/20/00
PEPIN, LAURIER A, LEWISTON, ME | 06/20/00
PEPPMEIER, ROBERT E, SPRINGFIELD, MO | 06/20/00
PERRY, TERESA A, FLORAL CITY, FL | 06/20/00
PHARR, DONNA M, BONHAM, TX | 06/20/00
PINZON, MANUEL, BAYSIDE, NY | 06/20/00
PIRRIE, RICHARD MICHAEL, INDIAN ROCKS BCH, FL | 06/20/00
POWELL, GREGORY V, LOVELAND, OH | 06/20/00
POWERS, MELVA J, LANSING, MI | 06/20/00
PROVO, IAN V, ROCKFORD, IL | 06/20/00
PURIFOY, SERETA M, CLEVELAND, OH | 06/20/00
PURKSON, LORRIA DENISE, BIRMINGHAM, AL | 06/20/00
RAINEY, CYNTHIA E, LAWRENCEVILLE, VA | 06/20/00
RASNAKE, VICKIE, LEBANON, VA | 06/20/00
RAWLINSON, SANDRA DIANE, ATMORE, AL | 06/20/00
REMET, JUDITH B, KINGSTON, NY | 06/20/00
RIVERA, LINEA, ALHAMBRA, CA | 06/20/00
ROHR, KIMBERLY TALARIGO, PORTAGE, PA | 06/20/00
RUNNELS, DOROTHY FAYE, TYLER, TX | 06/20/00
SANDERS, DONALD E JR, CAMPTON, KY | 06/20/00
SANSHU, TROY EDWARD, SAN DIEGO, CA | 06/20/00
SANTIAGO, PARRY ANTONIO, SONOMA, CA | 06/20/00
SCOON, MALCOLM E, MALONE, NY | 06/20/00
SEMPKOWSKI, LEON C, TUCSON, AZ | 06/20/00
SHIPLEY, RAY L, SALINAS, CA | 06/20/00
SICILIANI, KRISTYN RAE, CARROLLTON, TX | 06/20/00
SIDEMAN, CASEY H, HOMERVILLE, GA | 06/20/00
SILVA, SHARON L, BRISTOL, CT | 06/20/00
SMITH, ROBIN MICHELLE, HUEYTOWN, AL | 06/20/00
SOHN, YOUNG S, UPPER SADDLE RIVER, NJ | 06/20/00
SPENCE, CINDY LEE, MARSHALL, TX | 06/20/00
STALHEIM, ALAN J, CARPINTERIA, CA | 06/20/00
STEINBERG, TORI L, WASHINGTON, IA | 06/20/00
STEVENS, KATHERINE LOUISE SMITH, JELLICO, TN | 06/20/00
STEWART, MARY DARLENE, SUMITON, AL | 06/20/00
STRICKLAND, ROBIN J, CHARLESTOWN, NH | 06/20/00
SUZUKI, ANTHONY, LONG BEACH, CA | 06/20/00
TARNACKI, ANNE M, ALLEN PARK, MI | 06/20/00
TAYLOR, ROBERT M, NEW MILFORD, CT | 06/20/00
TEKLUVE, JOHN P, CINCINNATI, OH | 06/20/00
TOMPKINS, WANDA NELL, PORT RICHEY, FL | 06/20/00
TOMPKINS, CAROLE ANN, YULEE, FL | 06/20/00
TREVINO, MARY ROSE, CORPUS CHRISTI, TX | 06/20/00
VIEDER, MARK D, FARMINGTON HILLS, MI | 06/20/00
VILLARREAL, GLORIA G, HOUSTON, TX | 06/20/00
WADE, JAMES OLIVER, ASHDOWN, AR | 06/20/00
WARE, ALTON T, CLEVELAND, OH | 06/20/00
WEBER, WARREN SIDNEY, SMITHTOWN, NY | 06/20/00
WHITE, CHRISTOPHER PAUL, MOULTON, AL | 06/20/00
WHITE, PATRICIA LOUISE, TEMPLE, TX | 06/20/00
WILCOX, SUSAN ALEEN, N PLATT, NE | 06/20/00
WILLETT, JOHN E, MUSKEGON, MI | 06/20/00
WINGO, WANDA JEAN, DEATSVILLE, AL | 06/20/00
WRIGHT, SUSAN J, COMSTOCK PARK, MI | 06/20/00
WYATT, MIAXIE, LOUISVILLE, KY | 06/20/00
YATES, GERALD ALEX, SHELBY, AL | 06/20/00
YNOSTROSA, RICARDO RAMOS, SAN ANTONIO, TX | 06/20/00
ZARKIN, ALLAN, NEW YORK, NY | 06/20/00
ZAWADZKI, KATHY J, WAUKEGAN, IL | 06/20/00
FEDERAL/STATE EXCLUSION/SUSPENSION
MASON MEDICAL SUPPLY, CHATSWORTH, CA | 06/20/00
FRAUD/KICKBACKS
LLOYD, SUZANNE MARLBOROUGH, CT | 12/08/98
LLOYD GROUP LTD MARLBOROUGH, CT | 12/08/98
NEW AGE PULMONARY DIAGNOSTICS, WALNUT, CA | 03/12/99
PETER J EMBRIANO, M D, P C, SOMERS, CT | 07/28/98
SAYERS, AARON, WALNUT, CA | 03/12/99
TLG ELDERCARE INC, MARLBOROUGH, CT | 12/08/98
ADVANCED MEDICAL SOLUTIONS, DENVER, CO | 02/14/99
BARNO CHIROPRACTIC, ORANGEVALE, CA | 06/20/00
CHIROPRACTIC HEALTH & HEALTH, KELLER, TX | 06/20/00
CONTINUING HEALTH CARE ED, INC, DENVER, CO | 02/14/99
DME OF CASTLE ROCK, INC, DENVER, CO | 02/14/99
DME OF LONGMONT, INC, DENVER, CO | 02/14/99
DR ABY KAHN, INC, SAN JOSE, CA | 06/20/00
DURABLE MEDICAL EQUIPMENT, INC, DENVER, CO | 02/14/99
E MARK WATERMAN, D C CHIRO, CLAREMONT, CA | 06/20/00
EHRHARDT PHARMACY, INC, EHRHARDT, SC | 06/20/00
HEALTH CARE RESOURCES GROUP, DENVER, CO | 02/14/99
HOME HEALTH CARE RESOURCES, DENVER, CO | 02/14/99
JAVARONE CHIROPRACTIC, P C, OAKDALE, PA | 06/20/00
KRISON MEDICAL EQUIP, INC, HIALEAH, FL | 06/20/00
NC DIAGNOSTIC AND BILLING, INC, STATEN ISLAND, NY | 06/20/00
OCEAN HILLS CHIROPRACTIC, PLAYA DEL REY, CA | 06/20/00
P M R, INC, DENVER, CO | 02/14/99
PARKWOOD DENTAL OFFICE, INC, MIAMI, FL | 06/20/00
PORTILLO CHIROPRACTIC, CAMPBELL, CA | 06/20/00
PROF MED RESOURCES OF OREGON, DENVER, CO | 02/14/99
PROFESSIONAL HEALTH RESOURCES, DENVER, CO | 02/14/99
PROFESSIONAL MEDICAL RESOURCES, DENVER, CO | 02/14/99
REYES CHIROPRACTIC CENTER, VISALIA, CA | 06/20/00
TOTAL CARE HEALTH SERVICES, DENVER, CO | 02/14/99
DEFAULT ON HEAL LOAN
ANDERSON, SHARON R, FULLERTON, CA | 05/01/00
BETTS, ROBERT E, JACKSON, MI | 06/20/00
CHOCHLA, THOMAS N, WALESKA, GA | 06/20/00
COOK, IAN K, AMITYVILLE, NY | 06/20/00
CORNELY, MICHAEL P, MERCHANTVILLE, NJ | 04/26/00
CURTIS, DIANE B, NEWPORT BEACH, CA | 06/20/00
DAVALOS, STEVEN M, CARMEL VALLEY, CA | 06/20/00
ELDER, TERRY M, LOMBARD, IL | 06/20/00
FOSTER, GRADY JR, SILVER SPRING, MD | 06/20/00
FUCIGNA, ROBERT J, STAMFORD, CT | 06/20/00
HANES, KATHY JANE, SAN DIEGO, CA | 06/20/00
HENDERSON, CHARLES A, ATLANTA, GA | 06/20/00
HOWARD, MICHAEL S, DALLAS, TX | 06/20/00
HUDSON, SCOTT C, VICTORVILLE, CA | 06/20/00
HUTCHINGS, LYLE W, UPLAND, CA | 06/20/00
ISRAELSEN, JOHN A, LOGAN, UT | 05/10/00
JOYCE, KARLA A, SHOREVIEW, MN | 06/20/00
KELLY, KEVIN M, RANCHO CORDOVA, CA | 06/20/00
KOONTZ, ROBIN M, FT LAUDERDALE, FL | 06/20/00
LEWIS, GEORGE M, SUISUN, CA | 02/09/00
LICHTMAN, SUSAN L, BROOKLYN, NY | 06/20/00
LINEHAN, BRUCE M, PUYALLUP, WA | 06/20/00
MAJOR, MICHAEL J, MT DORA, FL | 06/20/00
MARTINEZ, THEODORE J, FRESNO, CA | 06/20/00
MASSO, JOHN G, NASHVILLE, TN | 06/20/00
MEREDITH, MARGARET L, BLACKSBURG, VA | 06/20/00
MITCHIE, DALE P, ESSEXVILLE, MI | 06/20/00
MURPHY, MICHAEL A, ASBURY PARK, NJ | 04/24/00
NICHOLS, MARCUS F, CULVER CITY, CA | 05/01/00
NOWRY, REMOND, N HOLLYWOOD, CA | 06/20/00
PARCHMENT, LESLIE D, CLEVELAND, OH | 06/20/00
RISING SUN, ZANE C, BISMARCK, ND | 06/20/00
ROBINETTE, TERRY A, SANDY, UT | 04/05/00
SCHILLER, CHISTINE M, FOUNTAIN VALLEY, CA | 06/20/00
SNOPARSKY, HARRIS J, BENNINGTON, VT | 06/20/00
SPATES, CHRISTA Y, CHICAGO, IL | 06/20/00
ST JUSTE, DOMINIQUE, BROOKLYN, NY | 06/20/00
STINE, SUSAN M, GROSSE POINTE PK, MI | 06/20/00
TARKI, FARHAD, DALLAS, TX | 06/20/00
VAISHVILA, GAIL A, SANTA MONICA, CA | 06/20/00
WARD, LARRY A, LAPORTE, TX | 06/20/00

Dated: June 5, 2000.
Joanne Lanahan,
Director, Health Care Administrative Sanctions, Office of Inspector General.

[FR Doc. 00-14812 Filed 6-12-00; 8:45 am]

BILLING CODE 4150-04-P